OFFICE OF MANAGEMENT AND BUDGET

Public Availability of Fiscal Year (FY) 2003 Agency Inventories Under the Federal Activities Inventory Reform Act of 1998 (Public Law 105-270) (“FAIR Act”)

AGENCY: Office of Management and Budget, Executive Office of the President.

ACTION: Notice of public availability of agency inventory of activities that are not inherently governmental and of activities that are inherently governmental.

SUMMARY: In accordance with the FAIR Act, agency inventories of activities that are not inherently governmental are now available to the public from the agencies listed below for FY 2003. The FAIR Act requires that OMB publish each fiscal year an announcement of public availability of agency inventories of activities that are not inherently governmental. After review and consultation with OMB, agencies are required to make their inventories available to the public. Agencies have also included activities that are inherently governmental. This is the second release of the FAIR Act inventories for FY 2003. Interested parties who disagree with the agency's initial judgment can challenge the inclusion or the omission of an activity on the list of activities that are not inherently governmental and, if not satisfied with this review, may demand a higher agency review/appeal.

The Office of Federal Procurement Policy has made available a FAIR Act User's Guide through its Internet site: http://www.whitehouse.gov/OMB/procurement/fair-index.html. This User's Guide will help interested parties review FY 2003 FAIR Act inventories and gain access to agency inventories through agency Web site addresses.

Joshua B. Bolten,
Director.

SECOND FAIR ACT RELEASE 2003
American Battle Monuments Commission | Mr. William Athas, (703) 696-6869, www.abmc.gov.
Arlington National Cemetery | Mr. Rory Smith, (703) 614-5060, www.arlingtoncemetery.org.
Armed Forces Retirement Home | Mr. Steve McManus, (202) 730-3533, www.afrh.com.
Broadcasting Board of Governors | Mr. Stephen Smith, (202) 619-1088, www.bbg.gov.
Department of Defense | Mr. Paul Soloman, (703) 602-3666, web.lmi.org/fairnet.
Department of Defense (Inspector General) | Major Eric Kase, (703) 604-9744, www.dodig.osd.mil.
Department of Energy | Mr. Dennis O'Brien, (202) 586-1690, www.doe.gov.
Department of Health and Human Services | Mr. Michael Colvin, (202) 690-7887, www.hhs.gov/ogam/oam/fair/.
Department of Homeland Security | Mr. David Childs, (202) 772-9785, http://www.dhs.gov/dhspublic/display?theme=37.
Department of Labor | Mr. Al Stewart, (202) 693-4028, www.dol.gov.
Department of State | Mr. Eugene Batt (202) 663-2308, www.state.gov.
Department of Transportation (IG) | Ms. Jackie Weber, (202) 366-1495, www.oig.dot.gov.
Environmental Protection Agency | Ms. Barbara Stearrett, (202) 564-4496, www.epa.gov.
Environmental Protection Agency (Inspector General) | Ms. Elissa Karpf, (202) 566-2604, www.epa.gov/oigearth.
Farm Credit Administration | Mr. Philip Shebest, (703) 883-4146, www.fca.gov.
Federal Retirement Thrift Investment Board | Mr. Richard White, (202) 942-1633, www.tsp.gov.
General Services Administration | Mr. Paul Boyle, (202) 501-0324, www.gsa.gov.
Intelligence Agencies | Mr. Jim Meehan, (703) 482-5886, No website available.
International Trade Commission | Mr. Stephen McLaughlin, (202) 205-3131, www.usitc.gov.
Kennedy Center | Mr. Jared Barlage, (202) 416-8731, www.kennedy-center.org.
National Transportation Safety Board | Ms. Barbara Czech, (202) 314-6169, www.ntsb.gov.
Office of Personnel Management | Mr. Alfred Chatterton III, (202) 606-1004, www.opm.gov.
Office of the U.S. Trade Representative | Ms. Susan Buck, (202) 395-9412, www.ustr.gov.
Peace Corps | Mr. George Schutter, (202) 692-1630, www.peacecorps.gov.
Railroad Retirement Board | Mr. Henry Valiulius, (312) 751-4520, www.rrb.gov.
Railroad Retirement Board (Inspector General) | Ms. Henrietta Shaw, (312) 751-4345, www.rrb.gov/oig/Rrboig.htm.
Selective Service System | Mr. Calvin Montgomery, (703) 605-4038, www.sss.gov.
Small Business Administration | Mr. Robert J. Moffitt, (202) 205-6610, www.sba.gov.
Small Business Administration (Inspector General) | Ms. Janis Coughlin, (202) 205-7373, www.sba.gov/ig.
U.S. Trade Development Agency | Ms. Barbara Bradford, (703) 875-4357, www.tda.gov.

[FR Doc. 04-1400 Filed 1-22-04; 8:45 am]

BILLING CODE 3110-01-P